DEPARTMENT OF THE INTERIOR

Bureau of Indian Affairs

Final Environmental Impact Statement for the Nottawaseppi Huron Band of Potawatomi Indians' Proposed 79 Acre Fee-to-Trust Transfer and Casino Project in Emmett Township, Calhoun County, MI

AGENCY: Bureau of Indian Affairs, Interior.

ACTION: Notice.

SUMMARY: This notice advises the public that the Bureau of Indian Affairs (BIA) intends to file a Final Environmental Impact Statement (FEIS) with the U.S. Environmental Protection Agency for the proposed 79 acre fee-to-trust land transfer and casino project in Emmett Township, Calhoun County, Michigan, and that the FEIS is now available to the public. The purpose of the proposed action is to help provide for the economic development of the Nottawaseppi Huron Band of Potawatomi Indians (Tribe).

DATES: The Record of Decision on the proposed action will be issued on or after July 31, 2006. Any comments on the FEIS must arrive by July 31, 2006.

ADDRESSES: You may mail or hand carry written comments to Terrance L. Virden, Director, Midwest Region, Bureau of Indian Affairs, Bishop Henry Whipple Federal Building, One Federal Drive, Room 550, Ft. Snelling, Minnesota 55111. Please include your name, return address and the caption, “FEIS Comments, Nottawaseppi Huron Band of Potawatomi Indians’ Proposed 79 Acre Fee-to-Trust and Casino Project, Emmett Township, Calhoun County, Michigan,” on the first page of your written comments.

Copies of the FEIS will be available for review at: (1) Willard Library, 7 West Van Buren, Battle Creek, Michigan 49017, Telephone (269) 968-8166; (2) Helen Warner Branch Library, 36 Minges Creek Place, Battle Creek, Michigan 49015, Telephone (269) 968-8166, extension 600; and (3) Marshall District Library, 124 West Green Street, Marshall, Michigan 49068, Telephone (269) 781-7821.

If you would like to obtain a copy of the FEIS, please write or call Herb Nelson, Regional Environmental Scientist, Midwest Region, Bureau of Indian Affairs, Bishop Henry Whipple Federal Building, One Federal Drive, Room 550, Ft. Snelling, Minnesota 55111, telephone (612) 725-4510, fax (612) 713-4401. The FEIS is also available on line at http://www.HuronFEIS.com.

FOR FURTHER INFORMATION CONTACT: Herb Nelson, (612) 725-4510.

SUPPLEMENTARY INFORMATION: The Tribe has asked the BIA to take 79 acres of land into trust on behalf of the Tribe, on which the Tribe proposes to build a casino. The property is located along the south side of Interstate 94 (I-94) in Emmett Township, Calhoun County, Michigan, at the Eleven Mile Road exit. The gaming facility would be managed by Gaming Enterprises Michigan (GEM) on behalf of the Tribe, pursuant to the terms of the gaming management agreement between the Tribe and GEM. The NIGC is responsible for the review and approval of the gaming management contract.

The project design includes an approximately 136,000 square foot casino, designed to accommodate 2000 slot machines and 50 gaming tables. The site is also proposed to include parking for approximately 3600 cars for patrons and gaming facility employees, plus 20 visitor spaces for busses and other over-sized vehicles. The parking area would cover approximately 32 acres.

Alternatives to the proposed project that are considered and evaluated in detail in the FEIS are as follows: (1) Trust acquisition and casino construction and operation (the proposed action); (2) trust acquisition and construction and operation of a casino smaller than the casino described in the proposed action; (3) trust acquisition and construction and operation of a casino with reduced hours of operation; (4) trust acquisition and construction and operation of a casino at an alternate location from that in the proposed action; and (5) no action. Alternatives considered and properly eliminated from detailed study in the FEIS include non-casino alternatives and the construction and operation of a larger casino than that described in the proposed action.

Environmental issues addressed in the FEIS include land and water resources, air quality, biological resources, cultural resources, socioeconomic conditions, resource use patterns, traffic and transportation networks, sound and noise, hazardous materials, public health and safety, public services, environmental justice, aesthetic resources and lighting, indirect and induced growth impacts, cumulative impacts and mitigation.

The BIA held a public scoping meeting July 28, 2004, in Battle Creek, Michigan, to identify issues and alternatives to be considered in the EIS. The BIA held a public hearing on the Draft Environmental Impact Statement August 24, 2005, in Battle Creek, Michigan.

Public Comment Availability

Comments, including names and addresses of respondents, will be available for public review at the BIA address shown in the ADDRESSES section, during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council on Environmental Quality Regulations (40 CFR Parts 1500 through 1508) implementing the procedural requirements of the National Environmental Policy Act of 1969, as amended (42 U.S.C. 4321 et seq.), and the Department of the Interior Manual (516 DM 1-6), and is in the exercise of authority delegated to the Principal Deputy Assistant Secretary—Indian Affairs by 209 DM 8.

Dated: March 6, 2006.
Michael D. Olsen,
Acting Principal Deputy Assistant Secretary—Indian Affairs.

[FR Doc. 06-5817 Filed 6-28-06; 8:45 am]

BILLING CODE 4310-W7-P